ENVIRONMENTAL PROTECTION AGENCY

[FRL-10001-82-Region 10]

Reissuance of NPDES General Permits for Aquaculture Facilities in Idaho Excluding Facilities Discharging into the Upper Snake-Rock Subbasin (IDG131000) and Aquaculture Facilities Located in Indian Country in Idaho (IDG133000)

AGENCY: Region 10, Environmental Protection Agency.

ACTION: Reissuance of NPDES General Permits.

SUMMARY: The Director of the Water Division, EPA Region 10, is reissuing two National Pollutant Discharge Elimination System (NPDES) General Permits for: (1) Aquaculture Facilities in Idaho Excluding Facilities Discharging into the Upper Snake-Rock Subbasin, and (2) Aquaculture Facilities Located in Indian Country in Idaho. The General Permits will authorize discharges of wastewater from cold and warm water Concentrated Aquatic Animal Production facilities, (also referred to as CAAPs or “hatcheries”). The permits will largely replace and combine IDG131000, the NPDES General Permit for Cold Water Aquaculture Facilities in Idaho (not subject to Wasteload Allocations) and IDG130000, the NPDES General Permit for Aquaculture Facilities in Idaho (subject to Wasteload Allocations). Facilities covered under IDG130000 that are not within the Upper Snake-Rock Subbasin will be terminated once coverage under IDG131000 or IDG133000 is available. Facilities covered under IDG130000 that discharge within the Upper Snake-Rock Subbasin are not affected by this action and will remain covered under IDG130000. By separating out discharges from aquaculture facilities located in Indian County in Idaho, where the EPA is the permitting authority, under a separate General Permit (IDG133000), this action will facilitate the transfer of IDG131000 to the State of Idaho in 2020 as part of the phased implementation of Idaho's administration of the NPDES Program.

DATES: The issuance date of the General Permit is October 31, 2019, the date of publication of this notice. The General Permits will be effective December 1, 2019.

ADDRESSES: Copies of the general permits, Fact Sheet, and Response to Comments are available upon request. Written requests may be submitted to: Water Division; USEPA Region 10; 1200 Sixth Avenue, Suite 155, WD19-C04, Seattle, WA 98101-3188. Electronic requests may be sent to: washington.audrey@epa.gov. For requests by phone, call Audrey Washington at (206) 553-0523. These documents can also be accessed online on the EPA Region 10 website at: www.epa.gov/npdes-permits/draft-npdes-general-permits-aquaculture-facilities-idaho.

SUPPLEMENTARY INFORMATION:

I. General Information

There are approximately 25 facilities eligible for coverage under the two General Permits. Aquaculture facilities may use one of several types of production systems, including ponds, flow-through systems, and recirculating systems. Most of the facilities eligible for coverage under the General Permits use flow-through systems. Most facilities have a quiescent zone at the bottom of their raceways to allow solids and debris to settle out (where they can be vacuumed and removed) and use a full-flow settling basin or offline settling basin to remove sediment and associated pollutants prior to discharge.

The General Permits include numeric effluent limits for total phosphorus and total suspended solids for all facilities and temperature limits for some facilities, as well as prohibitions on certain discharges and practices. Numeric limitations for facilities may differ depending on applicable Total Maximum Daily Load (TMDL) Wasteload Allocations. The Permit includes reporting requirements for usage of drugs and chemicals and the development of a Best Management Practices Plan. Major changes from the 2007 General Permit include: Removal of the percent total suspended solids removal requirement for offline settling basins; prohibition on copper usage; the addition of continuous temperature monitoring for some facilities; and miscellaneous monitoring revisions.

Facilities will receive a written notification from the EPA whether permit coverage and authorization to discharge under one of the General Permits is approved.

The EPA received 30 comments from 5 entities during the public comment period which extended from June 6, 2019 through July 22, 2019. The EPA also received tribal and state CWA 401 certifications, which can be found in Appendix D of the Fact Sheet. A Response to Comments document was prepared, which explains any changes made to Permit between proposal and final issuance.

The EPA has completed a Biological Evaluation for these Permit actions. Consultation under the Endangered Species Act between the EPA and the National Marine Fisheries Service and the U.S. Fish and Wildlife Service has been completed. The Services concurred on the EPA's determination that the Permit actions are not likely to adversely affect species listed under the Endangered Species Act or designated critical habitat.

II. Other Legal Requirements

This action was submitted to the Office of Management and Budget (OMB) for review under Executive Orders 12866, Regulatory Planning and Review, and 13563, Improving Regulation and Regulatory Review, and was determined to be not significant.

Compliance with Endangered Species Act, Essential Fish Habitat, Paperwork Reduction Act, and other requirements are discussed in the Fact Sheet to the permits.

Appeal of Permit: Any interested person may appeal the final permit action within 120 days of October 31, 2019 (i.e., the issuance date of this permit) in the Federal Court of Appeals in accordance with Section 509(b)(1) of the CWA, 33 U.S.C. 1369(b)(1).

Dated: October 23, 2019.
Daniel D. Opalski,
Director, Water Division, Region 10.

[FR Doc. 2019-23831 Filed 10-30-19; 8:45 am]

BILLING CODE 6560-50-P